ENVIRONMENTAL PROTECTION AGENCY

[FRL OP-OFA-027]

Environmental Impact Statements; Notice of Availability

Responsible agency: Office of Federal Activities, General Information 202-564-5632 or https://www.epa.gov/nepa.

Weekly receipt of Environmental Impact Statements (EIS)

Filed July 18, 2022 10 a.m. EST Through July 25, 2022 10 a.m. EST

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20220104, Draft, BR, AZ, White Mountain Apache Tribe Rural Water System, Comment Period Ends: 09/12/2022, Contact: Dominic Graziani 623-773-6216.

EIS No. 20220105, Final, USFS, NM, Santa Fe National Forest Land Management Plan, Review Period Ends: 08/29/2022, Contact: Sarah Browne 505-414-3301.

EIS No. 20220106, Final, USCG, MARAD, TX, SPOT Deepwater Port, Review Period Ends: 09/12/2022, Contact: Matthew Layman 202-372-1421.

EIS No. 20220107, Draft, USACE, FL, Lake Okeechobee System Operating Manual, Comment Period Ends: 09/12/2022, Contact: Jessica M. Menichino 904-858-5101.

EIS No. 20220108, Final, TVA, TN, Clinch River Nuclear Site Advanced Nuclear Reactor Technology Park, Review Period Ends: 08/29/2022, Contact: J. Taylor Johnson 423-751-2732.

Amended Notice

EIS No. 20220060, Draft, BLM, NM, SunZia Southwest Transmission Project, Comment Period Ends: 08/01/2022, Contact: Adrian Garcia 505-954-2199. Revision to FR Notice Published 04/29/2022; Extending the Comment Period from 07/28/2022 to 08/01/2022.

Dated: July 26, 2022.
Cindy S. Barger,
Director, NEPA Compliance Division, Office of Federal Activities.

[FR Doc. 2022-16274 Filed 7-28-22; 8:45 am]

BILLING CODE 6560-50-P